DEPARTMENT OF AGRICULTURE

Forest Service

Wrangell-Petersburg Resource Advisory Committee

AGENCY: Forest Service, Agriculture (USDA).

ACTION: Notice of meeting.

SUMMARY: The Wrangell-Petersburg Resource Advisory Committee (RAC) will hold two virtual meetings by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act for the Tongass National Forest within the vicinity of the communities of Wrangell, Petersburg and Kake, Alaska. Secure Rural Schools program information can be found at the following website: https://www.fs.usda.gov/working-with-us/secure-rural-schools.

DATES: The meetings will be held on October 13 and 14, 2021 at 6:30 p.m.-10:30 p.m., Alaska Daylight Time.

All RAC meetings are subject to cancellation. For status of the meetings prior to attendance, please contact the person listed under For Further Information Contact.

ADDRESSES: The meetings will be held virtually via telephone and/or video conference. Those who would like to join the meetings should contact the person listed under For Further Information Contact.

Written comments may be submitted as described under Supplementary Information. All comments, including names and addresses when provided, are placed in the record and are available for public inspection and copying. The public may inspect comments received upon request.

FOR FURTHER INFORMATION CONTACT: Linda Slaght, RAC Coordinator, by phone at 907-772-5948 or via email at linda.slaght@usda.gov.

Individuals who use telecommunication devices for the deaf/hard-of-hearing (TDD) may call the Federal Relay Service (FRS) at 1-800-877-8339, 24 hours a day, every day of the year, including holidays.

SUPPLEMENTARY INFORMATION: The purpose of the meetings are to:

1. Hear from Title II project proponents and discuss project proposals;

2. Make funding recommendations on Title II projects;

3. Review progress of previously funded projects;

4. Approve meeting minutes; and

5. Schedule the next meeting.

The meetings are open to the public. The agenda will include time for people to make oral statements of three minutes or less. Individuals wishing to make an oral statement at either of the meetings should make a request in writing by Friday, October 8, 2021, to be scheduled on the agenda for that particular meeting. Anyone who would like to bring related matters to the attention of the committee may file written statements with the committee staff before or after the meetings. Written comments and requests for time for oral comments must be sent to Linda Slaght, RAC Coordinator, P.O Box 1328, Petersburg, Alaska 99833 or by email to linda.slagsht@usda.gov or via facsimile to 907-772-5995.

Meeting Accommodations: If you are a person requiring reasonable accommodation, please make a request in advance for sign language interpreter services, assistive listening devices, or other reasonable accommodation. For access to proceedings, please contact the person listed in the section titled For Further Information Contact. All reasonable accommodation requests are managed on a case-by-case basis.

Dated: September 20, 2021.
Cikena Reid,
USDA Committee Management Officer.

[FR Doc. 2021-20724 Filed 9-23-21; 8:45 am]

BILLING CODE 3411-15-P